DEPARTMENT OF JUSTICE

Antitrust Division

Notice Pursuant to the National Cooperative Research and Production Act of 1993—Defense Electronics Consortium

Notice is hereby given that, on April 9, 2024, pursuant to section 6(a) of the National Cooperative Research and Production Act of 1993, 15 U.S.C. 4301 et seq. (“the Act”), Defense Electronics Consortium (“DEC”) has filed written notifications simultaneously with the Attorney General and the Federal Trade Commission disclosing changes in its membership. The notifications were filed for the purpose of extending the Act's provisions limiting the recovery of antitrust plaintiffs to actual damages under specified circumstances. Specifically, AlchLight LLC, Rochester, NY; Carbon Technology, Inc., Irvine, CA; Crystal Sonic, Inc., Phoenix, AZ; Design West Technologies, Inc., Tustin, CA; DuPont Specialty Products USA LLC, Circleville, OH; Ectron Corp., San Diego, CA; Firan Technology Group USA, Chatsworth, CA; Freedom Photonics, Goleta, CA; Gigantor Technologies, Inc., Melbourne Beach, FL; Graf Research Corp., Blacksburg, VA; GreenSource Fabrication LLC, Charlestown, NH; Hughes Circuits, San Marcos, CA; ITCLAD, Inc., Prescott, WI; Kyma Technologies, Inc., Raleigh, NC; Light and Charge Solutions LLC dba Margik, Charlotte, NC; Lux Semiconductors, Albany, NY; Materion Newton, Inc., Newton, MA; Momentum Optics, Fort Collins, CO; Mosaic Microsystems LLC, Rochester, NY; NanoElectronic Imaging, Inc., Riverside, CA; Nanohmics, Inc., Austin, TX; NEXT Semiconductor Technologies, Inc., San Diego, CA; OAM Photonics LLC, Albuquerque, NM; Orbital Mining Corp., Golden, CO; Pison Technology, Inc., Boston, MA; Power Technology, Inc., Alexander, AR; PseudolithIC, Santa Barbara, CA; Quantic Evans, East Providence, RI; Sciperio, Inc., Orlando, FL; Siemens Government Technologies, Inc., Reston, VA; SiliconCore Technology, Inc., Milpitas, CA; Soctera, Inc., Ithaca, NY; TalkingHeads Wireless, Inc., Somerville, MA; Teliatry, Inc., Richardson, TX; and Tiami LLC, Elk Grove, CA, have been added as parties to this venture.

Also, AlchLight LLC, Rochester, NY; Carbon Technology, Inc., Irvine, CA; Crosstalk LLC, Kansas City, MO; Guardion, Inc., Burlington, MA; InertialWave, Inc., Torrance, CA; Intrinsix Corp., Marlborough, MA; Lux Semiconductors, Albany, NY; Nano OPS, Inc., Burlington, MA; OptiCOMP Networks, Attleboro, MA; Orbital Mining Corp., Golden, CO; ResCav LLC, Columbus, OH; SRI International, Menlo Park, CA; TalkingHeads Wireless, Inc., Somerville, MA; Teliatry, Inc., Richardson, TX; and The Crestridge Group LLC, Lubbock, TX, have withdrawn as parties to this venture.

No other changes have been made in either the membership or planned activity of the group research project. Membership in this group research project remains open, and DEC intends to file additional written notifications disclosing all changes in membership.

On April 12, 2023, DEC filed its original notification pursuant to section 6(a) of the Act. The Department of Justice published a notice in the Federal Register pursuant to section 6(b) of the Act on August 8, 2023 (88 FR 53520).

The last notification was filed with the Department on October 11, 2023. A notice was published in the Federal Register pursuant to section 6(b) of the Act on December 15, 2023 (88 FR 86935).

Suzanne Morris,
Deputy Director Civil Enforcement Operations, Antitrust Division.

[FR Doc. 2024-14283 Filed 6-27-24; 8:45 am]

BILLING CODE P